DEPARTMENT OF COMMERCE

National Oceanic and Atmospheric Administration

RIN 0648-XR83

Marine Mammals; File No. 358-1787

AGENCY: National Marine Fisheries Service (NMFS), National Oceanic and Atmospheric Administration (NOAA), Commerce.

ACTION: Notice; issuance of permit amendment.

SUMMARY: Notice is hereby given that the Alaska Department of Fish and Game, Division of Wildlife Conservation, 1255 West 8th Street, Juneau, AK 99802 (Principal Investigator: Robert Small, Ph.D.), has been issued a major amendment to Permit No. 358-1787-02.

ADDRESSES: The permit amendment and related documents are available for review upon written request or by appointment in the following office(s):

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

FOR FURTHER INFORMATION CONTACT: Tammy Adams or Amy Sloan, (301) 713-2289.

SUPPLEMENTARY INFORMATION: On September 25, 2009, notice was published in the Federal Register (74 FR 48909) that a request for an amendment to Permit No. 358-1787-02 to conduct research on harbor seals (Phoca vitulina), spotted seals (P. largha), ringed seals (P. hispida), ribbon seals (P. fasciata), and bearded seals (Erignathus barbatus) in Alaska had been submitted by the above-named applicant. The requested permit amendment has been issued under the authority of the Marine Mammal Protection Act of 1972, as amended (16 U.S.C. 1361 et seq.) and the regulations governing the taking and importing of marine mammals (50 CFR part 216).

The amended permit allows an increase in the number of ringed, bearded, spotted, and ribbon seals that may be captured, from 50 per year to 100 per year, to allow for selection of animals of specific age, sex, and molt condition. The amendment also includes permission to (1) administer diazepam as needed to sedate seals acting aggressively during handling, (2) pull a whisker for stable isotope analyses of diet; and (3) use a dip net from a boat as an additional capture method. The amendment is valid for the duration of the permit, which expires on December 31, 2011.

In compliance with the National Environmental Policy Act of 1969 (42 U.S.C. 4321 et seq.), a final determination has been made that the activity proposed is categorically excluded from the requirement to prepare an environmental assessment or environmental impact statement.

Dated: March 1, 2010.
Tammy C. Adams,
Acting Chief, Permits, Conservation and Education Division, Office of Protected Resources, National Marine Fisheries Service.

[FR Doc. 2010-4683 Filed 3-4-10; 8:45 am]

BILLING CODE 3510-22-S